DEPARTMENT OF COMMERCE

National Oceanic and Atmospheric Administration

50 CFR Part 660

[Docket No. 061024277-6277-01; I.D. 101206C]

RIN 0648-AU94

Fisheries Off West Coast States; Pacific Coast Groundfish Fishery; Advance Notice of Proposed Rulemaking to Establish a Control Date

AGENCY: National Marine Fisheries Service (NMFS), National Oceanic and Atmospheric Administration (NOAA), Commerce.

ACTION: Advance notice of proposed rulemaking; request for comments.

SUMMARY: NMFS and the Pacific Fishery Management Council (Council) are beginning to develop a groundfish fishery management plan (FMP) amendment and management measures to reduce harvest capacity in the open access portion of the Pacific Coast groundfish fishery in Federal waters off Washington, Oregon, and California. This document announces a control date for the open access portion of September 13, 2006, and is intended to discourage new entrants into this fishery and increased fishing effort based on economic speculation while the Council determines whether and how access should be controlled. The announcement is intended to promote awareness of potential eligibility criteria for future access to the open access portion of the Pacific Coast groundfish fishery. Vessels entering the fisheries after September 13, 2006, may be subject to restrictions different from those that apply to vessels in the fishery prior to September 13, 2006. If catch history is used as a basis for future participation or allocation, it is likely that participation in the fishery after September 13, 2006, would not count toward future allocations or participation in a limited access scheme. Because potential eligibility criteria for future management measures may be based on historical participation, fishery participants may need to preserve records that substantiate and verify their participation in the groundfish fishery in Federal waters.

ADDRESSES: You may submit comments, on issues and alternatives, identified by 111505A by any of the following methods:

• E-mail: pfmc.comments@noaa.gov. Include “Open Access Limitation” in the subject line of the message.

• Federal eRulemaking Portal: http://www.regulations.gov.

• Fax: 503-820-2299.

• Mail: Dr. Donald McIsaac, Pacific Fishery Management Council, 7700 NE Ambassador Pl., Suite 101, Portland, OR, 97220.

FOR FURTHER INFORMATION CONTACT: Mr. John DeVore, Pacific Fishery Management Council, phone: 503-820-2280, fax: 503-820-2299 and email: john.devore@noaa.gov; or Ms. Yvonne deReynier NMFS, Northwest Region, phone: 206-526-6129, fax: 206-526-6426 and email: yvonne.dereynier@noaa.gov.

SUPPLEMENTARY INFORMATION:

Electronic Access

This Federal Register document is available on the Government Printing Office's website at: www.gpoaccess.gov/fr/index/html.

Background

The Pacific Coast Groundfish Fishery Management Plan (FMP) was approved on January 4, 1982 (47 FR 43964, October 5, 1982), and has been amended 19 times. Implementing regulations for the FMP and its amendments are codified at 50 CFR part 660. On November 16, 1992, NMFS published final regulations implementing Amendment 6 to the FMP. Amendment 6 and its implementing regulations established a license limitation program and divided the Pacific Coast commercial groundfish fishery into limited entry and open access segments. The limited entry fishery is comprised of permitted vessels using trawl, longline and/or trap (pot) gear. The open access fishery is comprised of unpermitted vessels that use all other gear, as well as vessels that do not have limited entry permits endorsed for use with longline or trap gear but make small landings with longline or trap gear.

NMFS had previously made an announcement that the Council is considering additional management measures to further limit harvest capacity or to allocate between or within the limited entry commercial and the recreational groundfish fisheries. In order to discourage fishers from intensifying their fishing efforts for the purpose of amassing catch history that they speculate may aid them with any allocation or additional limited access program developed by the Council, the Council announced on April 9, 1998, that any program would not include consideration of catch landed after that date. NMFS announced that the Council was planning to consider catch history through the 1997 season (63 FR 53637, October 6, 1998). At its April 1999 meeting, the Council reviewed a proposal to create a limited entry program to limit new entrants into the open access fishery. At its June 1999 meeting, the Council further examined the proposal to create a limited entry program to limit new entrants into the open access fishery.

Members of the Council expressed concerns that restricting new entrants into the fishery would not adequately address harvest capacity concerns. Even though the need to limit new entrants into the open access fleet was recognized, this measure did not go forward for further development. Limited access and participation in the open access fisheries were further discussed at the November 1999 Council meeting, resulting in establishment of a November 5, 1999, control date notifying the public that the Council was considering the need to impose additional management measures to restrain harvest capacity in the open access fishery. However, other Council initiatives, such as development of rebuilding plans for overfished groundfish species, caused a delay in limiting access in the Pacific Coast groundfish open access fishery.

At its September 2006 meeting, the Council revisited this issue and decided to proceed with an FMP amendment to limit access and participation in the open access fishery. The Council also decided the established November 5, 1999, control date (65 FR 6577, February 10, 2000) was no longer useful for deciding eligibility requirements for a new Federal limited entry permit for the open access fishery. The Council noted the open access fishery had changed dramatically since November 1999 and new participants are not the same as those who have traditionally relied on the open access fishery. Therefore, at their September 2006 meeting in Foster City, California, the Council recommended a new control date of September 13, 2006, be established to give the public advance notice of the intent to limit entry and participation in the open access groundfish fishery.

If catch history is used as a basis for participation or allocation, it is likely that participation in the fishery after September 13, 2006, would not count toward future allocations in a limited access scheme. Fishermen are not guaranteed future participation in the groundfish fishery, regardless of their date of entry or level of participation in the fishery. This action does not commit the Council to develop any particular management regime or to use any specific criteria for determining entry to the fishery. This action also does not commit the Council to developing a management regime that uses fishing history in 2006 as criteria for determining future entry to the fishery. The Council may choose a different control date, or may choose a management program that does not make use of such a date. Implementation of any management measures for the fishery will require amendment of the regulations implementing the FMP, and will also require amending the FMP. Any action will require Council development of amendatory and regulatory proposals with public input and a supporting analysis, NMFS approval, and publication of implementing regulations in the Federal Register. The Council also announced their intent to further develop a timeline and the next steps in pursuing this FMP amendment next year. Additional information on the time and location for future meetings addressing capacity reduction and limited access in the open access fishery will be provided when these meetings are announced in the Federal Register. This information will also be posted on the Council website (www.pcouncil.org) (see ADDRESSES).

Authority: 16 U.S.C. 1801 et seq.

Dated: October 26, 2006.
Samuel D. Rauch III,
Deputy Assistant Administrator for Regulatory Programs, National Marine Fisheries Service.

[FR Doc. E6-18384 Filed 10-31-06; 8:45 am]

BILLING CODE 3510-22-S